DEPARTMENT OF ENERGY

Federal Energy Regulatory Commission

[Docket No. AD06-6-000]

Notice of Joint Meeting of the Federal Energy Regulatory Commission and the Nuclear Regulatory Commission

The Federal Energy Regulatory Commission (FERC) and the Nuclear Regulatory Commission (NRC) will hold a joint meeting on Thursday, June 7, 2018 at the headquarters of the Federal Energy Regulatory Commission, 888 First Street NE, Washington, DC 20426. The meeting is expected to begin at 9:00 a.m. and conclude at approximately 11:15 a.m. Eastern Time. Members of the public may attend this meeting. Commissioners from both agencies are expected to participate.

The format for the joint meeting will consist of discussions between the two sets of Commissioners following presentations by their respective staffs. In addition, representatives of the North American Electric Reliability Corporation (NERC) will attend and participate in this meeting.

The technical conference will be transcribed. Transcripts of the technical conference will be available for a fee from Ace-Federal Reporters, Inc. ((202) 347-3700 or 1 (800) 336-6646). There will be a free webcast of the conference. The webcast will allow persons to listen to the technical conference, but not participate. Anyone with internet access can listen to the conference by navigating to the Calendar of Events at www.ferc.gov and locating the technical conference in the Calendar. The technical conference will contain a link to its webcast. The Capital Connection provides technical support for the webcast and offers the option of listening to the meeting via phone-bridge for a fee. If you have any questions, please visit www.CapitolConnection.org or call 703-993-3100.¹

¹ The webcast will continue to be available on the Calendar of Events on the Commission's website www.ferc.gov for three months after the conference.

Pre-registration is not required but is highly encouraged for those attending in person. Attendees may register in advance at the following web page: https://www.ferc.gov/whats-new/registration/06-07-18-form.asp. Attendees should bring a photo ID and allow time to pass through building security procedures. There is no fee to attend the open meeting.

Commission conferences are accessible under section 508 of the Rehabilitation Act of 1973. For accessibility accommodations please send an email to accessibility@ferc.gov or call toll free 1-866-208-3372 (voice) or 202-502-8659 (TTY); or send a fax to 202-208-2106 with the required accommodations.

Questions about the meeting should be directed to Sarah McKinley at sarah.mckinley@ferc.gov or by phone at 202-502-8368.

Dated: May 22, 2018.
Kimberly D. Bose,
Secretary.

[FR Doc. 2018-11528 Filed 5-29-18; 8:45 am]

BILLING CODE 6717-01-P